DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community number
Arkansas:
Benton (Case No. 02-06-152P) (FEMA Docket No. P7628) | Unincorporated Areas | Aug. 29, 2003, Sept. 5, 2003, Benton County Daily Record | The Honorable Gary D. Black, Judge, Benton County, 215 East Central, Bentonville, AR 72712 | December 5, 2003 | 050419
Lonoke (Case No. 03-06-676P) (FEMA Docket No. P7628) | City of Cabot | Aug. 20, 2003, Aug. 27, 2003, Cabot Star-Herald | The Hon. Mickey D. Stumbaugh, Mayor, City of Cabot, 101 N. Second Street, Cabot, AR 72023 | November 26, 2003 | 050309
Washington (Case No. 03-06-1948P) (FEMA Docket No. P7630) | City of Fayetteville | Oct. 7, 2003, Oct. 14, 2003, Northwest Arkansas Times | The Honorable Dan Coody, Mayor, City of Fayetteville, 113 West Mountain Street, Fayetteville, AR 72701 | January 13, 2004 | 050216
Washington (Case No. 02-06-2147P) (FEMA Docket No. P7628) | City of Springdale | Aug. 20, 2003, Aug. 27, 2003, The Morning News | The Honorable Jerre Van Hoose, Mayor, City of Springdale, 201 Spring Street, Springdale, AR 72764 | November 26, 2003 | 050219
Washington (Case No. 03-06-1948P) (FEMA Docket No. P7630) | Unincorporated Areas | Oct. 7, 2003, Oct. 14, 2003, Northwest Arkansas Times | The Honorable Jerry Hunton, Judge, Washington County, 280 North College Avenue, Suite 500, Fayetteville, AR 72701 | January 13, 2004 | 050212
Illinois:
Will (Case No. 03-05-0430P) (FEMA Docket No. P7628) | Village of Mokena | Aug. 7, 2003, Aug. 14, 2003, The Lincoln Way Sun | The Honorable Robert Chiszar, Mayor, Village of Mokena, 11004 Carpenter Street, Mokena, IL 60448 | November 13, 2003 | 170705
Will (Case No. 03-05-2575P) (FEMA Docket No. P7628) | Village of Plainfield | Sept. 10, 2003, Sept. 17, 2003, The Enterprise | The Honorable Richard Rock, Mayor, Village of Plainfield, 24000 W. Lockport Street, Plainfield, IL 60544 | August 20, 2003 | 170771
Will (Case No. 03-05-0130P) (FEMA Docket No. P7626) | Village of Romeoville | July 23, 2003, July 30, 2003, The Herald News | The Honorable Fred Dewald, Jr., Mayor, Village of Romeoville, Village Hall, 13 Montrose Drive, Romeoville, IL 60446 | October 29, 2003 | 170711
Will (Case No. 03-05-0430P) (FEMA Docket No. P7628) | Unincorporated Areas | Aug. 7, 2003, Aug. 14, 2003, The Lincoln Way Sun | Mr. Joseph Mikan, Will County Executive, 302 North Chicago Street, Joliet, IL 60432 | November 13, 2003 | 170695
Indianapolis: (Case No. 03-05-1461P) (FEMA Docket No. P7628) | Marion City of Indianapolis | Sept. 22, 2003, Sept. 29, 2003, The Indianapolis Star | The Honorable Barthen Peterson, Mayor, City of Indianapolis, 200 East Washington, Street, Suite 2501, City-County Building, Indianapolis, IN 46204 | December 29, 2003 | 180159
Kansas:
Sedgwick (Case No. 03-07-883P) (FEMA Docket No. P7628) | City of Derby | Sept. 5, 2003, Sept. 12, 2003, The Daily Reporter | The Honorable Dion Avello, Mayor, City of Derby, Derby City Hall, 611 Mulberry Road Derby, KS 67037 | December 12, 2003 | 200323
Riley (Case No. 03-07-497P) (FEMA Docket No. P7628) | City of Manhattan | Sept. 5, 2003, Sept. 12, 2003, The Manhattan Mercury | The Honorable Mark Taussig, Mayor, City of Manhattan, City Hall 1101 Poyntz Avenue, Manhattan, KS 66502-5497 | December 12, 2003 | 200300
Johnson (Case No. 02-07-1011P) (FEMA Docket No. P7628) | City of Olathe | Jan. 21, 2003, Jan. 28, 2003, The Olathe News | The Honorable Michael Copeland, Mayor, City of Olathe, 126 South Cherry, Olathe, KS 66061 | April 29, 2003 | 200173
Sumner (Case No. 02-07-555P) (FEMA Docket No. P7626) | City of Wellington | July 17, 2003, July 24, 2003, Wellington Daily News | The Honorable Richard Granger, Mayor, City of Wellington, 317 South Washington, Wellington, KS 67152 | October 23, 2003 | 200349
Michigan:
Ingham, Eaton, & Clinton (Case No. 03-05-1475P) (FEMA Docket No. P7628) | City of Lansing | Sept. 5, 2003, Sept. 12, 2003, Lansing State Journal | The Honorable Tony Benavides, Mayor, City of Lansing, 9th Floor, City Hall, 124 W. Michigan Avenue, Lansing, MI 48933 | December 12, 2003 | 260090
Jackson (Case No. 02-05-3653P) (FEMA Docket No. P7628) | Township of Summit | Sept. 23, 2003, Sept. 30, 2003, Jackson Citizen Patriot | Mr. Russ Youngdahl, Supervisor, Township of Summit, 2121 Ferguson Road, Jackson, MI 49203 | Sept. 2, 2003 | 260575
Cass (Case No. 02-07-670P) (FEMA Docket No. P7626) | City of Harrisonville | July 11, 2003, July 18, 2003, Cass County Democrat-Missourian | The Honorable Kevin Wood, Mayor, City of Harrisonville, 300 East Pearl Street, Harrisonville, MO 64701 | October 17, 2003 | 290068
St. Louis (Case No. 03-07-106P) (FEMA Docket No. P7628) | City of Hazelwood | Sept. 1, 2003, Sept. 8, 2003, St. Louis Post Dispatch | The Honorable T.R. Carr, Mayor, City of Hazelwood, 415 Elm Grove Lane, Hazelwood, MO 63042-1917 | August 19, 2003 | 290357
New Mexico:
Bernalillo (Case No. 03-06-1002P) (FEMA Docket No. P7628) | City of Albuquerque | Aug. 29, 2003, Sept. 5, 2003, Albuquerque Journal | The Honorable Martin Chavez, Mayor, City of Albuquerque, P.O. Box 1293, Albuquerque, NM 87103 | August 15, 2003 | 350002
Bernalillo (Case No. 03-06-445P) (FEMA Docket No. P7628) | City of Albuquerque | Sept. 19, 2003, Sept. 26, 2003, Albuquerque Journal | The Honorable Martin Chavez, Mayor, City of Albuquerque, P.O. Box 1293, Albuquerque, NM 87103 | September 8, 2003 | 350002
Bernalillo (Case No. 02-06-1424P) (FEMA Docket No. P7626) | Unincorporated Areas | July 16, 2003, July 23, 2003, Albuquerque Journal | Mr. Tom Rutherford, Chairman, Bernalillo County, 2400 Broadway, S.E., Albuquerque, NM 87102 | October 22, 2003 | 350001
Bernalillo (Case No. 03-06-445P) (FEMA Docket No. P7628) | Unincorporated Areas | September 19, 2003, September 26, 2003, Albuquerque Journal | Mr. Tom Rutherford, Chairman, Bernalillo County, One Civic Plaza N.W., Albuquerque, NM 87102 | September 8, 2003 | 350001
Dona Ana (Case No. 03-06-1210P) (FEMA Docket No. P7628) | City of Las Cruces | September 1, 2003, September 8, 2003, Las Cruces Sun News | The Hon. William M. Mattiace, Mayor, City of Las Cruces, P.O. Box 20000, Las Cruces, NM 88004 | August 15, 2003 | 355332
Ohio:
Lorain (Case No. 03-05-0530P) (FEMA Docket No. P7628) | City of Avon | September 24, 2003, October 1, 2003, The Morning Journal | The Honorable James Smith, Mayor, City of Avon, 36080 Chester Road, Avon, OH 44011-1588 | September 15, 2003 | 390348
Lorain (Case No. 02-05-3235P) (FEMA Docket No. P7630) | City of Avon Lake | October 9, 2003, October 16, 2003, The Sun | The Honorable Robert Berner, Mayor, City of Avon Lake, 150 Avon Belden Road, Avon Lake, OH 44012 | September 24, 2003 | 390602
Butler (Case No. 03-05-1848P) (FEMA Docket No. P7626) | Unincorporated Areas | July 21, 2003, July 28, 2003, The Journal-News | Mr. Michael A. Fox, President, Butler County Commissioners, Government Services Center, 315 High Street, 6th Floor, Hamilton, OH 45011 | October 27, 2003 | 390037
Oklahoma:
Comanche (Case No. 03-06-076P) (FEMA Docket No. P7628) | City of Lawton | Aug. 1, 2003, Aug. 8, 2003, The Lawton Constitution | The Honorable Cecil E. Powell, Mayor, City of Lawton, 103 Southwest 4th Street, Lawton, OK 73501 | July 18, 2003 | 400049
Cleveland (Case No. 03-06-187P) (FEMA Docket No. P7626) | City of Norman | July 31, 2003, Aug. 7, 2003, The Norman Transcript | The Honorable Ron Henderson, Mayor, City of Norman, 2143 Jackson Drive, Norman, OK 73071 | November 6, 2003 | 400046
Oklahoma (Case No. 03-06-1389P) (FEMA Docket No. P7628) | City of Oklahoma City | Aug. 20, 2003, Aug. 27, 2003, The Daily Oklahoman | The Honorable Guy Liebmann, Mayor, City of Oklahoma City, 200 North Walker, Suite 302, Oklahoma City, OK 73102 | August 1, 2003 | 405378
Tulsa (Case No. 03-06-1939P) (FEMA Docket No. P7628) | City of Tulsa | Sept. 23, 2003, Sept. 30, 2003, Tulsa World | The Honorable Bill LaFortune, Mayor, City of Tulsa, 200 Civic Center, Tulsa, OK 74103 | December 30, 2003 | 405381
Texas:
Taylor and Jones (Case No. 03-06-198P) (FEMA Docket No. P7628) | City of Abilene | Aug. 18, 2003, Aug. 25, 2003, The Abilene Reporter-News | The Honorable Grady Barr, Mayor, City of Abilene, P.O. Box 60, Abilene, TX 79604 | November 24, 2003 | 485450
Tarrant (Case No. 03-06-1010P) (FEMA Docket No. P7628) | City of Arlington | Aug. 13, 2003, Aug. 20, 2003, Northeast Tarrant County Morning News | The Honorable Robert Cluck, Mayor, City of Arlington, 101 West Abram Street, Arlington, TX 76004 | July 22, 2003 | 485454
Jefferson (Case No. 02-06-2312P) (FEMA Docket No. P7628) | City of Beaumont | Aug. 13, 2003, Aug. 20, 2003, Beaumont Enterprise | The Honorable Evelyn Lord, Mayor, City of Beaumont, P.O. Box 3827, Beaumont, TX 77704 | November 19, 2003 | 485457
Williamson (Case No. 02-06-1089P) (FEMA Docket No. P7626) | City of Cedar Park | July 11, 2003, July 18, 2003, The Hill Country News | The Honorable Bob Young, Mayor, City of Cedar Park, 600 North Bell Boulevard, Cedar Park, TX 78613 | October 17, 2003 | 481282
Brazos (Case No. 03-06-102P) (FEMA Docket No. P7626) | City of College Station | July 24, 2003, July 31, 2003, The Eagle | The Honorable Ron Silvia, Mayor, City of College Station, P.O. Box 9960, College Station, TX 77842 | October 30, 2003 | 480083
Fort Bend (Case No. 02-06-2301P) (FEMA Docket No. P7626) | Unincorporated Areas | July 23, 2003, July 30, 2003, Fort Bend Star | The Hon. James C. Adolphus, Judge, Fort Bend County, 301 Jackson Street, Suite 719, Richmond, TX 77469 | October 29, 2003 | 480228
Tarrant (Case No. 02-06-2303P) (FEMA Docket No. P7626) | City of Fort Worth | July 21, 2003, July 28, 2003, The Star Telegram | The Hon. Michael J. Moncrief, Mayor, City of Fort Worth, 1000 Throckmorton Street, Fort Worth, TX 76102-6311 | July 8, 2003 | 480596
Tarrant (Case No. 03-06-1202P) (FEMA Docket No. P7628) | City of Fort Worth | Aug. 29, 2003, September 5, 2003, The Star Telegram | The Hon. Michael J. Moncrief, Mayor, City of Fort Worth, 1000 Throckmorton Street, Fort Worth, TX 76102-6311 | December 5, 2003 | 480596
Tarrant (Case No. 03-06-1203P) (FEMA Docket No. P7628) | City of Fort Worth | Aug. 13, 2003, Aug. 20, 2003, The Star Telegram | The Hon. Michael J. Moncrief, Mayor, City of Fort Worth, 1000 Throckmorton Street, Fort Worth, TX 76102-6311 | November 19, 2003 | 480596
Tarrant (Case No. 03-06-276P) (FEMA Docket No. P7628) | City of Fort Worth | Aug. 22, 2003, Aug. 29, 2003, The Star Telegram | The Hon. Michael J. Moncrief, Mayor, City of Fort Worth, 1000 Throckmorton Street, Fort Worth, TX 76102-6311 | November 28, 2003 | 480596
Tarrant (Case No. 03-06-1214P) (FEMA Docket No. P7628) | City of Hurst | July 25, 2003, Aug. 1, 2003, The Star Telegram | The Honorable William Souder, Mayor, City of Hurst, 1505 Precinct Line Road, Hurst, TX 76054-3302 | October 31, 2003 | 480601
Kaufman (Case No. 03-06-1932P) (FEMA Docket No. P7628) | Unincorporated Areas | Sept. 9, 2003, Sept. 16, 2003, The Terrell Tribune | The Honorable Wayne Gent, Judge, Kaufman County, 100 West Mulberry Street, Kaufman, TX 75142 | December 16, 2003 | 480411
Hays (Case No. 03-06-1537P) (FEMA Docket No. P7628) | City of Kyle | Sept. 3, 2003, Sept. 10, 2003, The Kyle Eagle | The Honorable James Adkins, Mayor, City of Kyle, 102 Briarwood Circle, Kyle, TX 78640 | August 18, 2003 | 481108
Dallas (Case No. 03-06-1543P) (FEMA Docket No. P7628) | City of Mesquite | Aug. 28, 2003, Sept. 4, 2003, Mesquite Morning News | The Honorable Mike Anderson, Mayor, City of Mesquite, P.O. Box 850137, Mesquite, TX 75185 | Dec. 4, 2003 | 485490
Fort Bend (Case No. 02-06-2301P) (FEMA Docket No. P7626) | City of Rosenberg | July 23, 2003, July 30, 2003, The Herald Coaster | The Honorable Joe Gurecky, Mayor, City of Rosenberg P.O. Box 32, Rosenberg, TX 77471-0032 | October 29, 2003 | 480232
Bexar (Case No. 02-06-1947P) (FEMA Docket No. P7628) | City of San Antonio | Jan. 24, 2003, Jan. 31, 2003, San Antonio Express News | The Honorable Ed Garza, Mayor, City of San Antonio, P.O. Box 839966, San Antonio, TX 78283 | May 2, 2003 | 480045
Bexar (Case No. 03-06-683P) (FEMA Docket No. P7628) | City of San Antonio | July 24, 2003, July 31, 2003, San Antonio Express News | The Honorable Ed Garza, Mayor, City of San Antonio, P.O. Box 839966, San Antonio, TX 78283-3966 | July 14, 2003 | 480045
Kaufman (Case No. 03-06-1932) (FEMA Docket No. P7628) | City of Terrell | Sept. 9, 2003, Sept. 16, 2003, The Terrell Tribune | The Hon. Frances Anderson, Mayor, City of Terrell, 201 East Nash Street, Terell, TX 75160 | December 16, 2003 | 480416
Wisconsin: Washington (Case No. 03-05-1465P) (FEMA Docket No. P7628) | Village of Germantown | Aug. 20, 2003, Aug. 27, 2003, Banner-Germantown Press | Mr. Charles J. Hargan, President, Village of Germantown, P.O. Box 337 Germantown, WI 53022 | August 11, 2003 | 550472

(Catalog of Federal Domestic Assistance No. 83.100, “Flood Insurance.”)

Dated: March 24, 2004.
Anthony S. Lowe,
Mitigation Division Director, Emergency Preparedness and Response Directorate.

[FR Doc. 04-7597 Filed 4-2-04; 8:45 am]

BILLING CODE 9110-12-P